DEPARTMENT OF ENERGY

Federal Energy Regulatory Commission

[Docket No. CP14-529-000]

Tennessee Gas Pipeline Company, L.L.C.; Notice of Application

Take notice that on July 31, 2014, Tennessee Gas Pipeline Company, L.L.C. (Tennessee), 1001 Louisiana Street, Suite 1000, Houston, Texas 77002, filed an application pursuant to section 7(c) of the Natural Gas Act to construct, install, modify and operate its Connecticut Expansion Project. The proposed Project involves the construction of two sections of new 36-inch pipeline looping totaling 1.35 miles in Albany County, New York, 3.81 miles in Berkshire and Hampden Counties, Massachusetts and one section of new 24-inch pipeline looping totaling 8.10 miles in Massachusetts and Hartford County, Connecticut and minor modifications to facilities at Tennessee's existing Agawam Compressor Station. The facilities will provide up to an additional 72.1 million cubic feet per day of incremental firm transportation capacity to Tennessee's existing 200 Line and 300 Line pipeline system, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Jacqueline M. Rocan, Assistant General Counsel, (713)420-4544, or by email at jacquelyne_rocan@kindermorgan.com, Thomas G. Joyce, Manager, Certificates, (713)420-3299, or by email at tom_joyce@kindermorgan.com, or Richard A. Siegel, Manager, Certificates, (713) 420-5535, or by email at Richard_siegel@kindermorgan.com. All persons located at 1001 Louisiana Street, Suite 1000, Houston, Texas, 77002.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

Persons who wish to comment only on the environmental review of this project should submit an original and two copies of their comments to the Secretary of the Commission. Environmental commenter's will be placed on the Commission's environmental mailing list, will receive copies of the environmental documents, and will be notified of meetings associated with he Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link. Persons unable to file electronically should submit original and 5 copies of the protest or intervention to the Federal Energy Regulatory Commission, 888 First Street NE., Washington, DC 20426.

Comment Date: 5:00 p.m. Eastern Time on September 4, 2014.

Dated: August 14, 2014.
Kimberly D. Bose,
Secretary.

[FR Doc. 2014-19749 Filed 8-19-14; 8:45 am]

BILLING CODE 6717-01-P